CIVIL RIGHTS COMMISSION

Sunshine Act Meeting Notice

AGENCY: United States Commission on Civil Rights.

ACTION: Notice of Commission public business meeting.

DATES: Friday, April 30, 2021, 2:00 p.m. EST.

FOR FURTHER INFORMATION CONTACT: Angelia Rorison: 202-376-7700; publicaffairs@usccr.gov.

ADDRESSES: Meeting to take place by telephone and is open to the public by telephone: 1-855-710-4184, Conference ID #: 435-9779. Computer assisted real-time transcription (CART) will be provided. The web link to access CART (in English) on Friday, April 30th, 2021 is https://www.streamtext.net/player?event=USCCR. Please note that CART is text-only translation that occurs in real time during the meeting and is not an exact transcript.

Meeting Agenda

I. Motion To Approve Commissioner Norma Cantú to Serve as USCCR Chair

II. Approval of Agenda

III. Business Meeting

A. Discussion and Vote on Statement of Walter E. Williams;

B. Discussion and Votes on Anti-Asian American Hate;

C. Discussion and Vote To Continue the Policy of Rebuttals and Surrebuttals;

D. Discussion and Vote To Suspend Speaker Series;

E. Discussion and Agreement To Appoint Bipartisan Commissioners to EAC

F. Discussion and Vote on NC SAC

G. Management and Operations

• Staff Director's Report

IV. Adjourn Meeting

Dated: April 21, 2021.
Angelia Marie Rorison,
USCCR Media and Communications Director.

[FR Doc. 2021-08851 Filed 4-23-21; 4:15 pm]

BILLING CODE P